CONSUMER PRODUCT SAFETY COMMISSION

Sunshine Act Meeting Notice

TIME AND DATE: Wednesday, November 28, 2012, 10:00 a.m.-12:00 p.m.

PLACE: Room 420, Bethesda Towers, 4330 East West Highway, Bethesda, Maryland.

STATUS: Commission Meeting—Open to the Public.

Matters To Be Considered

Decisional Matters

1. Bedside Sleepers—Notice of Proposed Rulemaking;

2. Handheld Carriers—Notice of Proposed Rulemaking;

3. Representative Samples—Final Rule.

A live webcast of the Meeting can be viewed at www.cpsc.gov/webcast. For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: November 16, 2012.
Todd A. Stevenson,
Secretary.

[FR Doc. 2012-28326 Filed 11-16-12; 4:15 pm]

BILLING CODE 6355-01-P